DEPARTMENT OF AGRICULTURE

Natural Resources Conservation Service

Manoa Watershed, Honolulu County, Hawaii

AGENCY: Natural Resources Conservation Service.

ACTION: Notice of Intent to prepare an Environmental Impact Statement.

SUMMARY: Pursuant to Section 102(2)(C) of the National Environmental Policy Act of 1969; the Council on Environmental Quality Guidelines (40 CFR Part 1500) and the Natural Resources Conservation Service Guidelines (7 CFR Part 650); the Natural Resources Conservation Service, U.S. Department of Agriculture, gives notice that an Environmental Impact Statement is being prepared for the Manoa Watershed, Honolulu County, Hawaii.

FOR FURTHER INFORMATION CONTACT: Lawrence T. Yamamoto, Director, Pacific Islands Area, Natural Resources Conservation Service, 300 Ala Moana Boulevard, Room 4-118, P.O. Box 50004, Honolulu, HI 96850-0050, Telephone: (808) 541-2600, ext. 105.

SUPPLEMENTARY INFORMATION: A preliminary assessment of this federally funded action indicates that the project may cause significant impacts on the environment. As a result, Lawrence T. Yamamoto, Director, has determined that the preparation and review of an Environmental Impact Statement (EIS) is needed for this project.

This project will be implemented under the Watershed Protection and Flood Prevention Act (Pub. L. 83-566, as amended), for the purpose of flood mitigation in Manoa Valley. The NRCS will work with the affected community and sponsoring local organizations to develop an acceptable plan to address the flood problem. Sponsoring local organizations include the State Department of Land and Natural Resources and the City and County of Honolulu.

The project aims to mitigate flooding of the magnitude experienced on October 30, 2004, when an intense rainstorm cell hit the upper watershed area of Manoa Valley. Runoff from the storm damaged streambanks and bridges throughout the valley. Bridges obstructed by debris diverted floodwater from the stream channel onto roads, damaging homes and other neighborhood improvements, as well as the University of Hawaii. The total damage from the flood event neared $100 million.

A full range of possible programs and actions will be considered in order to meet the project goal of flood mitigation. Currently under consideration are detention basins on public lands, flood walls, debris basins and other debris management actions, flood-proofing structures within the flood plain, diversion of flood waters, flood warning systems, widening of the channel, acquisition of properties within the floodplain, maintenance easements, and a drainage district. As hydrologic and hydraulic analyses are performed and stakeholder consultations are conducted, additional concepts may be developed.

A draft Environmental Impact Statement will be prepared and circulated for review by agencies and the public. The Natural Resources Conservation Service invites participation and consultation of agencies and individuals that have special expertise, legal jurisdiction, or interest in the preparation of the draft EIS. All written and verbal comments received in response to this Notice of Intent will be considered when determining the scope of the EIS. The sponsoring local organizations will be issuing an Environmental Impact Statement Preparation Notice pursuant to Hawaii Revised Statutes Chapter 343, and a public participation process in the affected community has already been initiated. NEPA and HRS 343 requirements will be coordinated in the preparation of the EIS document.

A public meeting will be held on Wednesday, April 25, 2007, at the Noelani Elementary School cafeteria from 6:30 p.m. to 8:30 p.m., to determine the scope of analysis of the proposed action. Further information on the proposed action or the public scoping meeting may be obtained from Lawrence T. Yamamoto, Director, at the above address or telephone number.

(This activity is listed in the Catalog of Federal Domestic Assistance under No. 10.904—Watershed Protection and Flood Prevention—and is subject to the provisions of Executive Order 12372 which requires intergovernmental consultation with State and local officials.)

Dated: March 14, 2007.
Lawrence T. Yamamoto,
Director, Pacific Islands Area.

[FR Doc. E7-5255 Filed 3-21-07; 8:45 am]

BILLING CODE 3410-16-P